DEPARTMENT OF TRANSPORTATION

Federal Highway Administration

Environmental Impact Statement: Lake, Cook and McHenry Counties, Illinois

AGENCY: Federal Highway Administration (FHWA), DOT.

ACTION: Notice to rescind a notice of intent to prepare an Environmental Impact Statement.

SUMMARY: The FHWA is issuing this notice to advise the public that an environmental impact statement will not be prepared for the Tri-County Access Project, a proposed transportation improvement project in Lake, Cook and McHenry counties in Illinois.

FOR FURTHER INFORMATION CONTACT:

Arlene K. Kocher, Division Administrator, Federal Highway Administration, 3250 Executive Park Drive, Springfield, Illinois 62703. Phone: (217) 492-4600.

Rocco Zucchero, Chief Planning Officer, Illinois Tollway, 2700 Ogden Avenue, Downers Grove, Illinois 60515, Phone 630-241-6800. Anthony Quigley, Deputy Director of Highways, Region 1 Engineer, Illinois Department of Transportation, 201 West Center Court, Schaumburg, Illinois 60196, Phone: 847-705-4401.

SUPPLEMENTARY INFORMATION: The FHWA, in cooperation with Illinois Tollway and the Illinois Department of Transportation, issued a notice of intent to prepare an environmental impact statement (EIS) on July 16, 2018 (83 FR 32947). The project proposal was to reduce congestion, improve reliability of travel, improve travel options connecting major origins and destinations, and improve local and regional travel efficiency in the project area.

Due to a change in transportation priorities, further work on the EIS for the Tri-County Access project EIS is cancelled and no further activities will occur.

Comments or questions concerning this notice should be directed to FHWA, the Illinois Tollway, or the Illinois Department of Transportation at the addresses provided above.

Authority: 23 U.S.C. 315; 23 CFR 771.123; 49 CFR 1.48

(Catalog of Federal Domestic Assistance Program Number 20.205, Highway Research, Planning and Construction. The regulations implementing Executive Order 12372 regarding intergovernmental consultation on Federal programs and activities apply to this program).

Dated: July 15, 2019.
Arlene K. Kocher,
Division Administrator, Federal Highway Administration, Springfield, Illinois.

[FR Doc. 2019-15464 Filed 7-19-19; 8:45 am]

BILLING CODE 4910-22-P